SURFACE TRANSPORTATION BOARD

[Docket No. FD 36134]

Portland Vancouver Junction Railroad, LLC—Operation Exemption—Rail Lines of Columbia Business Center, Clark County, Wash.

Portland Vancouver Junction Railroad, LLC (PVJR), a Class III rail carrier, has filed a verified notice of exemption under 49 CFR 1150.41 to operate approximately 3 miles of rail line owned by Columbia Business Center (CBC), a noncarrier, pursuant to an agreement with FC Service LLC, an agent for CBC, also a noncarrier.

According to PVJR, the 3-mile line is located within a business park in Clark County, Wash., and there are no mileposts. PVJR states that the lines interconnect with lines of the BNSF Railway Company (BNSF).

The transaction may be consummated on or after August 4, 2017, the effective date of the exemption (30 days after the verified notice was filed).¹

¹ PVJR has requested that the effective date of the exemption be advanced to July 31, 2017, so that operations may commence on August 1, 2017. This request will be addressed in a separate decision.

PVJR certifies that, as a result of this transaction, its projected revenues would not exceed those that would qualify it as a Class III rail carrier and will not exceed $5 million. PVJR states that the agreement does not involve any provision or agreement that may limit future interchange.

If the verified notice contains false or misleading information, the exemption is void ab initio. Petitions to revoke the exemption under 49 U.S.C. 10502(d) may be filed at any time. The filing of a petition to revoke will not automatically stay the effectiveness of the exemption. Petitions to stay must be filed no later than July 27, 2017 (at least seven days before the exemption becomes effective).

An original and 10 copies of all pleadings, referring to Docket No. FD 36134, must be filed with the Surface Transportation Board, 395 E Street SW., Washington, DC 20423-0001. In addition, a copy must be served on Richard H. Streeter, Law Office of Richard H. Streeter, 5255 Partridge Lane NW., Washington, DC 20016.

According to PVJR, this action is categorically excluded from environmental review under 49 CFR 1105.6(c).

Board decisions and notices are available on our Web site at WWW.STB.GOV.

Decided: July 14, 2017.
By the Board, Scott M. Zimmerman, Acting Director, Office of Proceedings.
Jeffrey Herzig,
Clearance Clerk.

[FR Doc. 2017-15166 Filed 7-18-17; 8:45 am]

BILLING CODE 4915-01-P